DEPARTMENT OF ENERGY

Federal Energy Regulatory Commission

[ Docket No. EL05-39-000]

ANP Funding I, LLC, Complainant v. ISO New England Inc. and New England Power Pool, Respondents; Notice of Complaint

December 10, 2004.

Take notice that on December 6, 2004, ANP Funding I, LLC (ANP) filed a Complaint against ISO New England, Inc., (ISO-NE) and the New England Power Pool (NEPOOL). ANP requests that the Commission: (1) Order Respondents to continue to abide by Market Rule 1 in its entirety unless and until the Commission issues an order authorizing an amendment of the NEPOOL tariff; and (2) direct Respondents to withdraw OP20 and the revisions to OP5 that were approved by NEPOOL on November 5, 2004 on the basis that they are inconsistent with Market Rule 1.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: December 20, 2004.

Magalie R. Salas,
Secretary.

[FR Doc. E4-3692 Filed 12-16-04; 8:45 am]

BILLING CODE 6717-01-P